NATIONAL AERONAUTICS AND SPACE ADMINISTRATION

[Notice (12-052)]

NASA Advisory Council; Commercial Space Committee; Meeting

AGENCY: National Aeronautics and Space Administration.

ACTION: Notice of meeting.

SUMMARY: In accordance with the Federal Advisory Committee Act, Public Law 92-462, as amended, the National Aeronautics and Space Administration (NASA) announces a meeting of the Commercial Space Committee of the NASA Advisory Council (NAC). This Committee reports to the NAC. The meeting will be held for the purpose of soliciting, from the scientific community and other persons, scientific and technical information relevant to program planning.

DATES: Monday, July 23, 2012, 12:30 p.m.-5:00 p.m.; and Tuesday, July 24, 2012, 10:00 a.m.-2:00 p.m.; Local Time.

ADDRESSES: NASA Goddard Space Flight Center (GSFC), Building 1, Room E100B, 8800 Greenbelt Road, Greenbelt, MD 20771.

FOR FURTHER INFORMATION CONTACT: Mr. Thomas W. Rathjen, Human Exploration and Operations Directorate, NASA Headquarters, Washington, DC 20546, (202) 358-0552, fax (202) 358-2885, or thomas.rathjen-1@nasa.gov.

SUPPLEMENTARY INFORMATION: The meeting will be open to the public up to the capacity of the room. This meeting is also available telephonically and by WebEx. For the July 23 meeting, any interested person may call the USA toll-free conference call number (888) 790-5969, pass code 7234039, to participate in this meeting by telephone. The WebEx link is https://nasa.webex.com/, the meeting number is 990 063 483, and the password is CSC@July23.

The agenda for the meeting includes the following topics:

—Goddard Space Flight Center's Commercial Space Activities and Plans

—Acquisition Process Lessons—Learned for the Evolved Expendable Launch Vehicle Program

—Results of the Recent SpaceX Commercial Orbital Transportation Services Demonstration Mission to International Space Station

—Joint Session with the NAC Human Exploration and Operations (HEO) Committee, and NAC Audit, Finance and Analysis Committee; on Commercial Orbital Transportation Services/Commercial Crew Development and an Overview of Contracting Options.

The joint session with the NAC HEO Committee, and the NAC Audit, Finance and Analysis Committee, will take place on Tuesday, July 24, 2012, 10:00 a.m.-1:00 p.m., Local Time at NASA Goddard Space Flight Center (GSFC), Building 1, Room E100D, 8800 Greenbelt Road, Greenbelt, MD 20771. Any interested person may call the USA toll-free conference call number (877) 877-951-7311, pass code 9070300, to participate in this meeting by telephone. The WebEx link is https://nasa.webex.com/, the meeting number 390 981 454, and the password is July23+24.

At 1:00 p.m. Local Time, the NAC Commercial Space Committee's meeting will move to NASA Goddard Space Flight Center (GSFC), Building 1, Room E100H, 8800 Greenbelt Road, Greenbelt, MD 20771, until 2:00 p.m. Local Time. Any interested person may call the USA toll free conference call number (888) 790-5969, pass code 7234039, to participate in this meeting by telephone. The WebEx link is https://nasa.webex.com/, the meeting number is 990 063 483, and the password is CSC@July23.

It is imperative that the meeting be held on these dates to accommodate the scheduling priorities of the key participants. All attendees will be requested to sign a register and to comply with NASA security requirements. Visitors must show a valid State or Federal issued picture ID, green card, or passport, before receiving an access badge to enter into GSFC and must state that they are attending the NAC's Commercial Space Committee meeting in Building 1. All U.S. citizens and green card holders desiring to attend must provide their full name, company affiliation (if applicable), and citizenship to Thomas Rathjen via email at thomas.rathjen-1@nasa.gov by telephone at (202) 358-0552 no later than the close of business July 16, 2012. Foreign Nationals must provide following information: full name, gender, date/place of birth, citizenship, home address, visa information (number, type, expiration date), passport information (number, country of issue, expiration date), employer/affiliation information (name of institution, title/position, address, country of employer, telephone, email address), and an electronically scanned or faxed copy of their passport and visa to Thomas Rathjen via email at thomas.rathjen-1@nasa.gov or by fax at (202) 358-2885 no later than close of business July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Susan M. Burch,
Acting, Advisory Committee Management Officer, National Aeronautics and Space Administration.

[FR Doc. 2012-15858 Filed 6-27-12; 8:45 am]

BILLING CODE 7510-13-P